DEPARTMENT OF HEALTH AND HUMAN SERVICES

National Committee on Vital and Health Statistics; Meeting

Pursuant to the Federal Advisory Committee Act, the Department of Health and Human Services (HHS) announces the following advisory committee meeting.

Name: National Committee on Vital and Health Statistics (NCVHS), Full Committee Meeting.

Time and Date: June 15, 2011 9 a.m.-2:30 p.m. June 16, 2011 10 a.m.-3 p.m. June 17, 2011 9 a.m.-5 p.m.

Place: Double Tree Hotel, 300 Army Navy Drive, Arlington, VA 22202, (703) 416-4100.

Status: Open.

Purpose: At this meeting the Committee will hear presentations and hold discussions on several health data policy topics. On the morning of the first day the Committee will hear updates from the Department, the Center for Medicare and Medicaid Services, and the Office of the National Coordinator. A discussion of a letter to the HHS Secretary regarding a report of the President's Council of Advisors on Science and Technology (PCAST) will also take place. In the afternoon there will be a Standards Subcommittee update and a briefing from the Privacy and Populations Subcommittee Workshop and HHS/IOM Health Data Health Information Forum.

On the morning of the second day there will be a review of the final PCAST letters. There will also be a briefing on the Department's Mulit-Payor Claims Database. Subcommittees will also present their reports.

On the third day public and private stakeholders will convene to update the Standards Subcommittee on the status of preparations for the upcoming compliance deadlines for new versions of the updated HIPAA Standards (5010, D.0), a new standard (Medicaid subrogation—NCPDP Version 3.0) and updated code sets under ICD-10. The compliance date for the updated and new standards is January 1, 2012, and the compliance deadline for ICD-10 is October 1, 2013.

The times shown above are for the full Committee meeting. Subcommittee breakout sessions can be scheduled for late in the afternoon of the first day and second day and in the morning prior to the full Committee meeting on the second day. Agendas for these breakout sessions will be posted on the NCVHS website (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: June 1, 2011.
James Scanlon,
Deputy Assistant Secretary for Planning and Evaluation, Science and Data Policy, Office of the Assistant Secretary for Planning and Evaluation.

[FR Doc. 2011-14249 Filed 6-8-11; 8:45 am]

BILLING CODE 4151-05-P